DEPARTMENT OF TRANSPORTATION

Federal Aviation Administration

Seventy-Eighth Meeting—Special Committee 159—Global Positioning System (GPS)

AGENCY: Federal Aviation Administration (FAA), DOT.

ACTION: Notice of RTCA Special Committee 159 meeting.

SUMMARY: The FAA is issuing this notice to advise the public of a meeting of RTCA Special Committee 159: Global Positioning System (GPS).

DATES: The meeting will be held February 9-13, 2008, from 9 a.m. to 4:30 p.m. (unless stated otherwise).

ADDRESSES: The meeting will be held at RTCA, Inc., 1828 L Street, NW., Suite 805, Washington, DC, 20036.

FOR FURTHER INFORMATION CONTACT: RTCA Secretariat, 1828 L Street, NW, Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 159 meeting. The agenda will include:

February 9

• Work Group Sessions, Half Day, 1 p.m. to 5 p.m., Working Group 2B, GPS L1 Only MOPS, MacIntosh-NBAA Room & Hilton-ATA Room.

February 10

• All Day, Working Group 2B, GPS L1 Only MOPS, ARINC Room.

• All Day, Working Group 2, GPS/WAAS), MacIntosh-NBAA Room & Hilton-ATA Room.

February 11

• All Day, Working Group 2B, GPS L1 Only MOPS, MacIntosh-NBAA Room & Hilton-ATA Room.

• All Day, Working Group 2C, GPS/Inertial, Colson Board Room.

February 12

• All Day, Working Group 4, Precision Landing Guidance (GPS/LAAS), MacIntosh-NBAA Room & Hilton-ATA Room.

February 13

• Open Plenary (Chairman's Introductory Remarks, Approval of Summary of the Seventy-Sixth Meeting held April 18, 2008, RTCA Paper No. 204-08/SC159-967).

• Review Working Group (WG) Progress and Identify Issues for Resolution

• GPS/3nd Civil Frequency (WG-1)

• GPS/WAAS (WG-2)

• GPS/GLONASS (WG-2A)

• GPS/L1 Only MOPS (WG-2B)

• GPS/Inertial (WG-2C)

• GPS/Precision Landing Guidance and (WG-4)

• GPS/Airport Surface Surveillance (WG-5)

• GPS/Interference (WG-6)

• GPS/Antennas (WG-7)

• GPS/GRAS (WG-8)

• Review of EUROCAE Activities.

• Consider for Approval, Revised DO-253B—Minimum Operational Performance Standards for GPS Local Area Augmentation System Airborne Equipment, RTCA Paper No. 202-08/SC159-965.

• Consider for Approval, Revised DO-246C—GNSS Based Precision Approach Local Area Augmentation System (LAAS), RTCA Paper No. 203-08/SC159-966.

• Closing Plenary Session (Assignment/Review of Future Work, Other, Date and Place of Next Meeting.)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 16, 2009.
Francisco Estrada C.,
RTCA Advisory Committee.

[FR Doc. E9-1741 Filed 1-27-09; 8:45 am]

BILLING CODE 4910-13-P